DEPARTMENT OF AGRICULTURE

Food and Nutrition Service

Agency Information Collection Activities: 2027 Farm to School Census

AGENCY: Food and Nutrition Service (FNS), USDA.

ACTION: Notice.

SUMMARY: In accordance with the Paperwork Reduction Act of 1995, this notice invites the general public and other public agencies to comment on this proposed information collection. This collection is a revision of a currently approved collection (OMB Number 0584-0646) for the 2027 Farm to School Census.

DATES: Written comments must be received on or before September 16, 2024.

ADDRESSES: Comments may be sent to: Amy Rosenthal, Food and Nutrition Service, U.S. Department of Agriculture, Braddock Metro Center II, 1320 Braddock Place, 5th Floor, Alexandria, VA 22314. Comments may also be sent via email to Amy Rosenthal at amy.rosenthal@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Amy Rosenthal at amy.rosenthal@usda.gov, 703-305-2245.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 2027 Farm to School Census.

OMB Number: 0584-0646.

Expiration Date: 5/31/25.

Type of Request: Revision of a currently approved collection.

Abstract: Section 18 of the Richard B. Russell National School Lunch Act authorized and funded USDA to establish a farm to school program in order to assist eligible entities, through grants and technical assistance, in implementing farm to school programs that improve food and agriculture education as well as access to local foods in schools. This work is housed within the FNS Community Food Systems Division. As part of the Farm to School Program's authorization, CFSD collects and disseminates information on farm to school activity throughout the country. CFSD conducted a national census of farm to school activity in 2013, 2015, 2019, and 2023. The Farm to School Census provides the only nationally-representative data available on farm to school participation and activities in the United States.

The 2027 Farm to School Census (Census) will collect and synthesize data from a national census of SFAs to better understand the characteristics of SFAs participating in farm to school and the scope and details of the activities they engage in (e.g., local food procurement, gardening, agriculture education). The Census will be distributed to all public ¹ and private SFAs (including residential child care institutions) participating in the National School Lunch Program (NSLP) in the 50 states, American Samoa, Guam, the Northern Mariana Islands, Puerto Rico, the U.S. Virgin Islands, and Washington, DC.

¹ Public includes charter schools that operate NSLP.

The primary mode of data collection will be an online survey, distributed to SFA directors. The online survey is expected to take 30 minutes to complete. Census questions will be based on prior Farm to School Census instruments, from the iterations conducted in 2023 (the currently approved collection, OMB Number 0584-0646), 2019 (OMB Number 0584-0646), 2015 (OMB Number 0584-0593), and 2013 (OMB Number 0536-0069). The 2027 survey instrument will closely follow the 2023 instrument in order to insure comparability. Some questions and/or response options may be removed, added or adjusted based on current research interests and to make the instrument as streamlined as possible. Respondents will receive an invitation to complete the Census along with a worksheet to help them prepare to respond to the survey and a document with answers to frequently asked questions.

To construct the contact list for the Census, State Child Nutrition (CN) directors will be sent a list of all SFAs in their State or territory, based on the most recently available FNS data. They will be asked to (1) add or remove any SFAs that have begun or ended participation in the NSLP and (2) provide contact information for the director of each SFA. State CN directors will also be asked to forward an announcement email (and one email reminder about the Census to SFAs.

Non-respondents will receive a reminder phone call and up to nine reminder emails. Study team staff will also be available for technical and completion assistance via a toll-free phone number.

Affected Public: The affected public includes State, Local, and Tribal Government (directors of public SFAs participating in the NSLP and State Child Nutrition directors); Business or Other For Profit (directors of private SFAs participating in the NSLP); and Not for Profit (directors of not for profit SFAs participating in the NSLP).

Estimated Number of Respondents: The estimated number of respondents is 19,056. This includes 12,406 respondents and 6,650 non-respondents. The number of unique respondents expected to provide data for this study are 9,806 State/local government respondents (56 CN directors and 9,750 directors of public SFAs), 1,625 business respondents (directors of private SFAs), and 975 not for profit respondents (directors of not for profit SFAs). These numbers are based on an estimated 65% response rate to the survey for SFAs (based on the 2023 Census response rate) and a 100% response rate to requests to State CN directors.

Estimated Number of Responses per Respondent: All respondents will be asked to respond to each specific data collection activity only once. The overall average number of responses per respondent across the entire collection is 13.4.

Estimated Total Annual Responses: The estimated number of total annual responses is 255,088.

Estimated Time per Response: The estimated time of response varies from 2 minutes (for some emails) to 30 minutes (for completion of the Census survey), as shown in the burden table below. The estimated time per response is 4.7 minutes (0.08 hours).

Estimated Total Annual Burden on Respondents: 20,110 hours. This includes 14,267 hours for respondents and 5,843 hours for non-respondents. See the table below for estimated total annual burden for each type of respondent.

Respondent Burden Table
Respondent type | Respondent description | Data collection activity | Original sample size | Responsive: Estimated number of respondents | Responsive: Frequency of response | Responsive: Total annual responses | Responsive: Hours per response | Responsive: Estimated annual burden (hours) | Non-responsive: Estimated number of non- respondents * | Non-responsive: Frequency of response | Non-responsive: Total annual responses | Non-responsive: Hours per response | Non-responsive: Estimated annual burden (hours) | Estimated total annual hour burden
State/local government | State Child Nutrition directors | Announcement email from FNS to State Child Nutrition Directors | 56 | 56 | 1 | 56 | 0.0668 | 3.74 | 0 | 0 | 0 | 0.00 | 0.00 | 3.74
|  | Contact list request from Study Team to State Child Nutrition Directors ¹ | 56 | 56 | 1 | 56 | 1.00 | 56.00 | 0 | 0 | 0 | 0.00 | 0.00 | 56.00
|  | Announcement email from State Child Nutrition Directors to SFAs | 56 | 56 | 1 | 56 | 0.50 | 28.00 | 0 | 0 | 0 | 0.00 | 0.00 | 28.00
|  | Reminder email from State Child Nutrition Directors to SFAs | 56 | 56 | 1 | 56 | 0.25 | 14.00 | 0 | 0 | 0 | 0.00 | 0.00 | 14.00
|  | Subtotal (States) | 56 | 56 | 4 | 224 | 0.45 | 101.74 | 0 | 0.00 | 0 | 0.00 | 0.00 | 101.74
| SFA directors: Public schools | Census survey pretest Announcement email from State Child Nutrition Directors to SFAs | 9 15,000 | 9 9,750 | 1 1 | 9 9,750 | 1.50 0.0668 | 13.50 651.30 | 0 5,250 | 0 1 | 5,250 | 0.00 0.0334 | 0.00 175.35 | 13.50 826.65
|  | Introductory email from Study Team to SFAs | 15,000 | 9,750 | 1 | 9,750 | 0.0668 | 651.30 | 5,250 | 1 | 5,250 | 0.0334 | 175.35 | 826.65
|  | Census preparation worksheet | 15,000 | 4,875 | 1 | 4,875 | 0.50 | 2,437.50 | 10,125 | 1 | 10,125 | 0.0334 | 338.18 | 2,775.68
|  | Census frequently asked questions (FAQ) document | 15,000 | 4,875 | 1 | 4,875 | 0.25 | 1,218.75 | 10,125 | 1 | 10,125 | 0.0334 | 338.18 | 1,556.93
|  | Census survey | 15,000 | 9,750 | 1 | 9,750 | 0.50 | 4,875.00 | 5,250 | 1 | 5,250 | 0.0501 | 263.03 | 5,138.03
|  | Reminder email #1 | 14,100 | 846 | 1 | 846 | 0.0501 | 42.38 | 13,254 | 1 | 13,254 | 0.0334 | 442.68 | 485.07
|  | Reminder email #2 | 13,254 | 795 | 1 | 795 | 0.0501 | 39.84 | 12,459 | 1 | 12,459 | 0.0334 | 416.12 | 455.96
|  | Reminder email #3 | 12,459 | 748 | 1 | 748 | 0.0501 | 37.45 | 11,711 | 1 | 11,711 | 0.0334 | 391.16 | 428.61
|  | Reminder email #4 | 11,711 | 703 | 1 | 703 | 0.0501 | 35.20 | 11,009 | 1 | 11,009 | 0.0334 | 367.69 | 402.89
|  | Reminder email #5 | 11,009 | 661 | 1 | 661 | 0.0501 | 33.09 | 10,348 | 1 | 10,348 | 0.0334 | 345.62 | 378.72
|  | Reminder email #6 | 10,348 | 621 | 1 | 621 | 0.0501 | 31.11 | 9,727 | 1 | 9,727 | 0.0334 | 324.89 | 355.99
|  | Reminder email #7 | 9,727 | 584 | 1 | 584 | 0.0501 | 29.24 | 9,144 | 1 | 9,144 | 0.0334 | 305.39 | 334.63
|  | Reminder email #8 | 9,144 | 549 | 1 | 549 | 0.0501 | 27.49 | 8,595 | 1 | 8,595 | 0.0334 | 287.07 | 314.56
|  | Reminder email from State Child Nutrition Directors to SFAs | 15,000 | 9,750 | 1 | 9,750 | 0.0668 | 651.30 | 5,250 | 1 | 5,250 | 0.0334 | 175.35 | 826.65
|  | Reminder telephone call | 8,595 | 1,719 | 1 | 1,719 | 0.0501 | 86.12 | 6,876 | 1 | 6,876 | 0.0334 | 229.66 | 315.78
|  | Thank you email | 9,750 | 9,750 | 1 | 9,750 | 0.0334 | 325.65 | 0 | 0 | 0 | 0.00 | 0.00 | 325.65
|  | Subtotal (SFAs: Public Schools) | 15,000 | 9,750 | 7 | 65,733 | 0.17 | 11,186.23 | 5,250 | 25.59 | 134,372 | 0.03 | 4,575.71 | 15,761.93
| Subtotal (All State/local government) |  | 15,056 | 9,806 | 7 | 65,957 | 0.17 | 11,287.97 | 5,250 | 25.59 | 134,372 | 0.03 | 4,575.71 | 15,863.67
Business | SFA directors: Private schools | Announcement email from State Child Nutrition Directors to SFAs | 2,500 | 1,625 | 1 | 1,625 | 0.0668 | 108.55 | 875 | 1 | 875 | 0.0334 | 29.23 | 137.78
|  | Introductory email from Study Team to SFAs | 2,500 | 1,625 | 1 | 1,625 | 0.0668 | 108.55 | 875 | 1 | 875 | 0.0334 | 29.23 | 137.78
|  | Census preparation worksheet | 2,500 | 813 | 1 | 813 | 0.50 | 406.25 | 1,688 | 1 | 1,688 | 0.0334 | 56.36 | 462.61
|  | Census frequently asked questions (FAQ) document | 2,500 | 813 | 1 | 813 | 0.25 | 203.13 | 1,688 | 1 | 1,688 | 0.0334 | 56.36 | 259.49
|  | Census survey | 2,500 | 1,625 | 1 | 1,625 | 0.50 | 812.50 | 875 | 1 | 875 | 0.0501 | 43.84 | 856.34
|  | Reminder email #1 | 2,350 | 141 | 1 | 141 | 0.0501 | 7.06 | 2,209 | 1 | 2,209 | 0.0334 | 73.78 | 80.84
|  | Reminder email #2 | 2,209 | 133 | 1 | 133 | 0.0501 | 6.64 | 2,076 | 1 | 2,076 | 0.0334 | 69.35 | 75.99
|  | Reminder email #3 | 2,076 | 125 | 1 | 125 | 0.0501 | 6.24 | 1,952 | 1 | 1,952 | 0.0334 | 65.19 | 71.43
|  | Reminder email #4 | 1,952 | 117 | 1 | 117 | 0.0501 | 5.87 | 1,835 | 1 | 1,835 | 0.0334 | 61.28 | 67.15
|  | Reminder email #5 | 1,835 | 110 | 1 | 110 | 0.0501 | 5.52 | 1,725 | 1 | 1,725 | 0.0334 | 57.60 | 63.12
|  | Reminder email #6 | 1,725 | 103 | 1 | 103 | 0.0501 | 5.18 | 1,621 | 1 | 1,621 | 0.0334 | 54.15 | 59.33
|  | Reminder email #7 | 1,621 | 97 | 1 | 97 | 0.0501 | 4.87 | 1,524 | 1 | 1,524 | 0.0334 | 50.90 | 55.77
|  | Reminder email #8 | 1,524 | 91 | 1 | 91 | 0.0501 | 4.58 | 1,432 | 1 | 1,432 | 0.0334 | 47.85 | 52.43
|  | Reminder email from State Child Nutrition Directors to SFAs | 2,500 | 1,625 | 1 | 1,625 | 0.0668 | 108.55 | 875 | 2 | 1,750 | 0.0334 | 58.45 | 167.00
|  | Reminder telephone call | 1,432 | 286 | 1 | 286 | 0.0501 | 14.35 | 1,146 | 1 | 1,146 | 0.0334 | 38.28 | 52.63
|  | Thank you email | 1,625 | 1,625 | 1 | 1,625 | 0.0334 | 54.28 | 0 | 0 | 0 | 0.00 | 0.00 | 54.28
| Subtotal (Business) |  | 2,500 | 1,625 | 7 | 10,954 | 0.17 | 1,862.12 | 875 | 26.59 | 23,270 | 0.03 | 791.84 | 2,653.96
Not For Profit | SFA directors: Not for profit schools | Announcement email from State Child Nutrition Directors to SFAs | 1,500 | 975 | 1 | 975 | 0.0668 | 65.13 | 525 | 1 | 525 | 0.0334 | 17.54 | 82.67
|  | Introductory email from Study Team to SFAs | 1,500 | 975 | 1 | 975 | 0.0668 | 65.13 | 525 | 1 | 525 | 0.0334 | 17.54 | 82.67
|  | Census preparation worksheet | 1,500 | 488 | 1 | 488 | 0.50 | 243.75 | 1,013 | 1 | 1,013 | 0.0334 | 33.82 | 277.57
|  | Census frequently asked questions (FAQ) document | 1,500 | 488 | 1 | 488 | 0.25 | 121.88 | 1,013 | 1 | 1,013 | 0.0334 | 33.82 | 155.69
|  | Census survey | 1,500 | 975 | 1 | 975 | 0.50 | 487.50 | 525 | 1 | 525 | 0.0501 | 26.30 | 513.80
|  | Reminder email #1 | 1,410 | 85 | 1 | 85 | 0.0501 | 4.24 | 1,325 | 1 | 1,325 | 0.0334 | 44.27 | 48.51
|  | Reminder email #2 | 1,325 | 80 | 1 | 80 | 0.0501 | 3.98 | 1,246 | 1 | 1,246 | 0.0334 | 41.61 | 45.60
|  | Reminder email #3 | 1,246 | 75 | 1 | 75 | 0.0501 | 3.75 | 1,171 | 1 | 1,171 | 0.0334 | 39.12 | 42.86
|  | Reminder email #4 | 1,171 | 70 | 1 | 70 | 0.0501 | 3.52 | 1,101 | 1 | 1,101 | 0.0334 | 36.77 | 40.29
|  | Reminder email #5 | 1,101 | 66 | 1 | 66 | 0.0501 | 3.31 | 1,035 | 1 | 1,035 | 0.0334 | 34.56 | 37.87
|  | Reminder email #6 | 1,035 | 62 | 1 | 62 | 0.0501 | 3.11 | 973 | 1 | 973 | 0.0334 | 32.49 | 35.60
|  | Reminder email #7 | 973 | 58 | 1 | 58 | 0.0501 | 2.92 | 914 | 1 | 914 | 0.0334 | 30.54 | 33.46
|  | Reminder email #8 | 914 | 55 | 1 | 55 | 0.0501 | 2.75 | 859 | 1 | 859 | 0.0334 | 28.71 | 31.46
|  | Reminder email from State Child Nutrition Directors to SFAs | 1,500 | 975 | 1 | 975 | 0.0668 | 65.13 | 525 | 2 | 1,050 | 0.0334 | 35.07 | 100.20
|  | Reminder telephone call | 859 | 172 | 1 | 172 | 0.0501 | 8.61 | 688 | 1 | 688 | 0.0334 | 22.97 | 31.58
|  | Thank you email | 975 | 975 | 1 | 975 | 0.0334 | 32.57 | 0 | 0 | 0 | 0.00 | 0.00 | 32.57
| Subtotal (Not for profit) |  | 1,500 | 975 | 7 | 6,572 | 0.17 | 1,117.27 | 525 | 26.59 | 13,962 | 0.03 | 475.11 | 1,592.38
Total Reporting Burden | 19,056 | 12,406 | 7 | 83,483 | 0.17 | 14,267 | 6,650 | 25.81 | 171,605 | 0.03 | 5,843 | 20,110

Tameka Owens,
Assistant Administrator, Food and Nutrition Service.

[FR Doc. 2024-15511 Filed 7-15-24; 8:45 am]

BILLING CODE 3410-30-P